COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List a product and services to be furnished by nonprofit agencies employing persons who are blind or have other severe disabilities, and deletes from the Procurement List services previously furnished by such agencies.

DATES: Effective Date: June 4, 2006.

ADDRESSES: Committee for Purchase From People Who Are Blind or Severely Disabled, Jefferson Plaza 2, Suite 10800, 1421 Jefferson Davis Highway, Arlington, Virginia 22202-3259.

FOR FURTHER INFORMATION CONTACT: Mary-Carolyn Bell, Telephone: (703) 603-7740, Fax: (703) 603-0655, or e-mail mbell@jwod.gov.

SUPPLEMENTARY INFORMATION:

Additions

On March 10, 2006, the Committee for Purchase From People Who Are Blind or Severely Disabled published notice (71 FR 12338) of proposed additions to the Procurement List.

The following comments pertain to Vehicle Maintenance/Operations, Oklahoma City Air Logistics Center, Tinker Air Force, Oklahoma.

Comments were received from two small businesses, neither of which are the current contractor for the services in question. One firm asked that the services be retained for small businesses, in order to keep the current employees on the job. The firm stated that vehicle maintenance services are much more challenging and complex than grounds maintenance or janitorial services, which the firm considers more appropriate for people with severe disabilities.

The nonprofit agency which will perform the services will phase into the work over an 18-month period, during which many of the current employees will retain their jobs for at least part of the period. People with severe disabilities, who will be replacing the current workers, have unemployment rates as high as 70 percent, well above those of people without such disabilities. The process of developing this project, including the determination that the people who will be performing the work are capable of doing so, was conducted with the extensive involvement of the government people at the base in question. The Committee has every confidence that people with severe disabilities will be able to perform their duties, which will create a sizeable number of jobs for them.

The other firm asked the Committee to work with it to ensure that the services in question are set aside for service-disabled veteran-owned small businesses. The Committee has no authority to do what the firm is asking.

The following material pertains to all of the items being added to the Procurement List.

After consideration of the material presented to it concerning capability of qualified nonprofit agencies to provide the product and services and impact of the additions on the current or most recent contractors, the Committee has determined that the product and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the government.

2. The action will result in authorizing small entities to furnish the product and services to the government.

3. There are no known regulatory alternatives which would accomplish the objectives of the Javits-Wagner-O'Day Act (41 U.S.C. 46-48c) in connection with the product and services proposed for addition to the Procurement List.

End of Certification

Accordingly, the following product and services are added to the Procurement List:

Product

Product/NSN: En-Route Care System (ERCS). 6545-00-NSH-0018—En-Route Care System (ERCS).

NPA: ServiceSource, Inc., Alexandria, Virginia.

Contracting Activity: Marine Corps Systems Command (MARCORPSYSCOM), Quantico, VA.

Services

Service Type/Location: Mailroom Operation, Internal Revenue Service, Ponce de Leon Avenue/Stop 27 ½, Hato Rey, Puerto Rico.

NPA: The Corporate Source, Inc., New York, New York.

Contracting Activity: U.S. Treasury, IRS Headquarters, Oxon Hill, Maryland.

Service Type/Location: Vehicle Maintenance/Operation, Oklahoma City Air Logistics Center, Tinker AFB, Oklahoma.

NPA: Professional Contract Services, Inc., Austin, Texas.

Contracting Activity: Tinker Air Force Base, Oklahoma.

Deletions

On March 10, 2006, the Committee for Purchase From People Who Are Blind or Severely Disabled published notice (71 FR 12339) of proposed deletions to the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the government.

3. There are no known regulatory alternatives which would accomplish the objectives of the Javits-Wagner-O'Day Act (41 U.S.C. 46-48c) in connection with the services deleted from the Procurement List.

End of Certification

Accordingly, the following services are deleted from the Procurement List:

Services

Service Type/Location: Administrative Services, Great Lakes Naval Training Center, Galley 535, 928 and 1128, 2703 Sheridan Road, Great Lakes, Illinois.

NPA: Opportunity, Inc., Highland Park, Illinois.

Contracting Activity: Department of the Navy.

Service Type/Location: Grounds Maintenance, Naval Supply Center, SW Division & various activities, Naval Station, San Diego, California.

NPA: The ARC of San Diego, San Diego, California.

Contracting Activity: Department of the Navy.

Service Type/Location: Janitorial/Custodial, U.S. Army Reserve Center, 1909 Kearsley Park Blvd., Flint, Michigan.

NPA: Michigan Community Services, Inc., Swartz Creek, Michigan.

Contracting Activity: Headquarters, 88th Regional Support Command, Fort Snelling, MN.

Patrick Rowe,
Deputy Executive Director.

[FR Doc. E6-6836 Filed 5-4-06; 8:45 am]

BILLING CODE 6353-01-P